DEPARTMENT OF TRANSPORTATION

Federal Aviation Administration

Public Notice for a Change in Use of Aeronautical Property Associated With Wiscasset Municipal Airport, Wiscasset, ME

AGENCY: Federal Aviation Administration (FAA), DOT.

ACTION: Request for public comments.

SUMMARY: The FAA is requesting public comment on the Town of Wiscasset, Maine's, request to change 1.38 acres of fee interest from aeronautical use to non-aeronautical use and to abandon .15 acres of an easement. The property is located on Route 27 in Edgecomb, Maine (Map R2 Lot 12). The property was for a non-directional beacon the FAA has decommissioned. The Town proposes to lease or sell the 1.38 acres in fee.

Section 125 of The Wendell H. Ford Aviation Investment and Reform Act for the 21st Century (AIR 21) requires the FAA to provide an opportunity for public notice and comment to the “waiver” or “modification” of a sponsor's Federal obligation to use certain airport property for aeronautical purposes.

The Town acquired the land FAA ADAP Project No. 7-27-0049-01.

The disposition of proceeds from the disposal of airport property will be in accordance with FAA's Policy and Procedures Concerning the Use of Airport Revenue, published in the Federal Register on February 16, 1999.

DATES: Comments must be received on or before October 7, 2010.

ADDRESSES: Documents are available for review by appointment by contacting at Erving Deck at Wiscasset Municipal Airport, Telephone 207-882-5475 or by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: The following is a legal description of the 1.38 acres of fee interest of the property:

Beginning at the Southwest corner of land described in deed from George H. Salley to George L. Worden it ux, dated May 29, 1968 and recorded in the Lincoln County Registry of Deeds, and at land now or formerly of Candace Sawyer; thence Northeasterly along land of said Sawyer and following a stone wall, to the Westerly side of Route #27; thence Northerly by and along said Route #27 (200) feet more or less to an iron rod; thence running at right angles to said Route #27 and in a Westerly direction, two hundred (200) feet, more or less to an iron rod; thence running Southerly and parallel to the above mentioned road to a stone wall which forms the Southerly boundary of the property described in the above cited deed; thence Southeasterly following said stone wall to the point of beginning. TOGETHER with a right of way to the above premises from the Old town road, so called.

The following is a legal description of the .15 acre easement:

Beginning at a pipe in rocks at the Northwest corner of land described in deed from George L. Worden and Martha Worden to the Inhabitants of the Town of Wiscasset, recorded May 15, 1973 in Book 770, Page 226 in the Lincoln County Registry of Deeds; thence South 00° 40′ West one hundred thirty (130′) feet along land of said Wiscasset to a point; thence North 89° 20′ West fifty (50′) feet to a point: thence North 00° 40′ East one hundred thirty (130”) feet to a point; thence South 89° 20′ East fifty (50′) feet to the point of beginning.

Issued in Burlington, Massachusetts on August 25, 2010.
LaVerne F. Reid,
Manager, Airports Division, New England Region.

[FR Doc. 2010-22110 Filed 9-3-10; 8:45 am]

BILLING CODE 4910-13-M